DEPARTMENT OF TRANSPORTATION

Federal Aviation Administration

Notice of Intent To Request Revision From the Office of Management and Budget of a Currently Approved Information Collection Activity, Request for Comments; Representative of the Administrator

AGENCY: Federal Aviation Administration (FAA), DOT.

ACTION: Notice and request for comments.

SUMMARY: The FAA invites public comments about our intention to request the Office of Management and Budget (OMB) to aprove a current information collection. Title 49 U.S.C. 44720 authorizes the appointment of appropriately qualified persons to be representatives of the Administrator to allow those persons to examine, text and certify other persons for the purpose of issuing them pilot and instructor certificates.

DATES: Please submit comments by November 13, 2006.

FOR FURTHER INFORMATION CONTACT: Carla Mauney on (202) 267-9895, or by e-mail at: Carla.Mauney@faa.gov.

SUPPLEMENTARY INFORMATION:

Federal Aviation Administration (FAA)

Title: Representative of the Administrator.

Type of Request: Revision of an approved collection.

OMB Control Number: 2120-0033.

Forms(s): 8110-14, 8110-28, 8710-6, 8710-9.

Affected Public: A total of 4,874 Respondents.

Frequency: The information is collected on occasion.

Estimated Average Burden Per Response: Approximately 1.413 hour per response.

Estimated Annual Burden Hours: An estimated 6,886 hours annually.

Abstract: Title 49 U.S.C. 44720 authorizes the appointment of appropriately qualified persons to be representatives of the Administrator to allow those persons to examine, text and certify other persons for the purpose of issuing them pilot and instructor certificates.

ADDRESSES: Send comments to the FAA at the following address: Mrs. Carla Mauney, Room 1033, Federal Aviation Administration, Information Systems and Technology Services Staff, ABA-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on September 7, 2006.
Carla Mauney,
FAA Information Collection Clearance Officer, Information Systems and Technology Services Staff, ABA-20.

[FR Doc. 06-7640 Filed 9-13-06; 8:45 am]

BILLING CODE 4910-13-M